DEPARTMENT OF ENERGY

Chicago Operations Office; Notice of Financial Assistance Solicitation Availability

AGENCY: Chicago Operations Office, DOE.

ACTION: Notice of financial assistance solicitation availability.

SUMMARY: The Department of Energy is announcing its intent to invite applications from small businesses and institutions of higher education and development for the Cooperative Automotive Research for Advanced Technologies (CARAT) Program. This annual solicitation seeks innovative research and development in the following seven (7) topic areas: TOPIC 1—Alternative (Non-Lithium) Insertion Electrode Battery Technology; TOPIC 2—Non-Carbon Anodes for Lithium-ion Batteries; TOPIC 3—Fuel Cells for Auxiliary and Portable Power; TOPIC 4—Homogeneous-Charge Compression-Ignition (HCCI) Enabling Technology; TOPIC 5—Cost-Effective, High-Efficiency Porous Media Heat Transfer; TOPIC 6—Cost-Effective, High-Efficiency Materials for Thermoelectric Devices; and TOPIC 7—Cost-Effective, High-Efficiency Integrated Systems Approach to Auxiliary Electric Motors.

DATES: The complete solicitation document will be available on or about April 27, 2001. The deadline for the submission of applications will be identified in the solicitation.

ADDRESSES: Copies of the solicitation, when issued, can be obtained from the DOE Chicago Operations Office, Acquisition and Assistance Home Page at http://www.ch.doe.gov/business/ACQ.htm under the heading “current solicitations”, Solicitation No. DE-SC02-01EE50657.

FOR FURTHER INFORMATION CONTACT: Earlette Robinson, 630/252-2667.

SUPPLEMENTARY INFORMATION: Preapplications will be due approximately two-weeks after on the release of the solicitation. Please note that users will not be alerted when the solicitation is issued on the Internet.

Issued in Argonne, Illinois on April 20, 2001.
John D. Greenwood,
Assistant Manager for Acquisition and Assistance.

[FR Doc. 01-10770 Filed 4-30-01; 8:45 am]

BILLING CODE 6450-01-P